DEPARTMENT OF TRANSPORTATION

Surface Transportation Board

[STB Finance Docket No. 34121]

Craggy Mountain Line, Inc.—Acquisition and Operation Exemption—Norfolk Southern Railway Co.

Craggy Mountain Line, Inc. (CMLX), a noncarrier, has filed a verified notice of exemption under 49 CFR part 1150.31 to acquire and operate approximately 3.45 miles of rail line currently owned by Norfolk Southern Railway Company (NS). The line, known as the Asheville to Craggy Branch, is a portion of the former Southern Railroad located in Woodfin Township, Buncombe County, NC, and extends between the beginning Survey Station ACM, 17+63=0100 in Woodfin Township and the ending Survey Station 123+00 “Asheville to Southern” 17+97 in Woodfin Township. CMLX certifies that its projected annual revenues as a result of this transaction will not result in the creation of a Class I or Class II rail carrier, and further certifies that its projected annual revenues will not exceed $5 million.

The transaction was scheduled to be consummated on or after December 31, 2001.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34121, must be filed with the Surface Transportation Board, Office of the Secretary, Case Control Unit, 1925 K Street, NW., Washington, DC 20423-0001. In addition, a copy of each pleading must be served on David R. Payne, P.A., 218 East Chestnut St., Asheville, NC 28801.

Boards decisions and notices are available on our Web site at “www.stb.dot.gov.”

Decided: January 9, 2002.
By the Board, David M. Konschnik, Director, Office of Proceedings.
Vernon A. Williams,
Secretary.

[FR Doc. 02-968 Filed 1-15-02; 8:45 am]

BILLING CODE 4915-00-P